DEPARTMENT OF AGRICULTURE

Forest Service

Forest Counties Payments Committee Meeting

AGENCY: Forest Service, USDA.

ACTION: Notice.

SUMMARY: The Forest Counties Payments Committee has scheduled a business meeting to discuss how it will provide Congress with the information specified in Section 320 of the Fiscal Year 2001 Interior and Related Agencies Appropriations Act. The meeting is open to the public.

DATES: The meeting will be held on July 18, 2006, from 9 a.m. until 5 p.m. and on July 19, 2006, from 9 a.m. until 12 p.m.

ADDRESSES: The meeting will be held at the Doubletree Hotel and Executive Meeting Center, 1000 N.E. Multnomah, Portland, Oregon 97232.

FOR FURTHER INFORMATION CONTACT: Randle G. Phillips, Executive Director, Forest Counties Payments Committee, at (202) 208-6574 or via e-mail at rphillips01@fs.fed.us.

SUPPLEMENTARY INFORMATION: Section 320 of the Interior and Related Agencies Appropriations Act of 2001 created the Forest Counties Payments Committee to make recommendations to Congress on a long-term solution for making Federal payments to eligible States and counties in which Federal lands are situated. The Committee will consider the impact on eligible States and counties of revenues from the historic multiple use of Federal lands; evaluate the economic, environmental, and social benefits which accrue to counties containing Federal lands; evaluate the expenditures by counties on activities occurring on Federal lands, which are Federal responsibilities; and monitor payments and implementation of The Secure Rural Schools and Community Self-Determination Act of 2000 (Pub. L. 106-393).

Dated: June 20, 2006.
Timothy DeCoster,
Director, Legislative Affairs.

[FR Doc. E6-10080 Filed 6-26-06; 8:45 am]

BILLING CODE 3410-11-P